DEPARTMENT OF ENERGY

Federal Energy Regulatory Commission

[Docket No. EG02-11-000]

LG&E Power Tiger Creek LLC; Notice of Application for Commission Determination of Exempt Wholesale Generator Status

October 30, 2001.

Take notice that on October 24, 2001, LG&E Power Tiger Creek (Power Tiger Creek), a Delaware limited liability company with its principal place of business at 220 West Main Street, Louisville, Kentucky 40232, filed with the Federal Energy Regulatory Commission (Commission) an application for determination of exempt wholesale generator status pursuant to part 365 of the Commission's regulations.

Power Tiger Creek proposes to construct, own and operate four 170-megawatt combustion turbine electric generating units in Washington County, Georgia. The units are scheduled to be completed in March and June, 2003 and to be in service by June 15, 2003. All capacity and energy from the plant will be sold exclusively at wholesale.

Any person desiring to be heard concerning the application for exempt wholesale generator status should file a motion to intervene or comments with the Federal Energy Regulatory Commission, 888 First Street, NE., Washington, DC 20426, in accordance with Rules 211 and 214 of the Commission's Rules of Practice and Procedure (18 CFR 385.211 and 385.214). The Commission will limit its consideration of comments to those that concern the adequacy or accuracy of the application. All such motions and comments should be filed on or before November 20, 2001, and must be served on the applicant. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-27672 Filed 11-2-01; 8:45 am]

BILLING CODE 6717-01-P